DEPARTMENT OF COMMERCE

Census Bureau

2030 Census Advisory Committee

AGENCY: Census Bureau, Department of Commerce.

ACTION: Notice of meeting cancellation.

SUMMARY: The 2030 Census Advisory Committee (2030 CAC) meeting previously scheduled for April 3-4, 2025, is cancelled.

FOR FURTHER INFORMATION CONTACT: Shana Banks, Advisory Committee Branch Chief, Office of Program, Performance and Stakeholder Integration (PPSI), shana.j.banks@census.gov, Department of Commerce, Census Bureau, telephone 301-763-3815. For TTY callers, please use the Federal Relay Service at 1-800-877-8339.

Ron Jarmin, Acting Director, Census Bureau, approved the publication of this notice in the Federal Register.

Dated: March 6, 2025.
Shannon Wink,
Program Analyst, Policy Coordination Office, U.S. Census Bureau.

[FR Doc. 2025-03907 Filed 3-11-25; 8:45 am]

BILLING CODE 3510-07-P